DEPARTMENT OF COMMERCE

National Oceanic and Atmospheric Administration

[I.D. 051502B]

Advisory Committee to the U.S. Section to the International Commission for the Conservation of Atlantic Tunas (ICCAT); Summer Workshop

AGENCY: National Marine Fisheries Service (NMFS), National Oceanic and Atmospheric Administration (NOAA), Commerce.

ACTION: Notice of public meeting.

SUMMARY: The Advisory Committee to the U.S. Section to ICCAT announces a summer workshop to evaluate historical landings of Atlantic bigeye, albacore, and yellowfin tunas and to assist in developing a program to improve statistical reporting for these species. The Advisory Committee will also meet with the Status Review Team (SRT) for the petition to list white marlin under the Endangered Species Act (ESA) and to provide information to the SRT relative to the five ESA listing criteria.

DATES: The workshop will be open to the public and will be held on June 10, 2002, from 10 a.m. to 4:15 p.m. and on June 11, 2002, from 8:45 a.m. to 12:30 p.m.

ADDRESSES: The meeting will be held at the Hilton Hotel Silver Spring, 8727 Colesville Road, Silver Spring, MD 20910.

FOR FURTHER INFORMATION CONTACT: Erika Carlsen at (301) 713-2276.

SUPPLEMENTARY INFORMATION: The Advisory Committee to the U.S. Section to ICCAT will meet in open session to review and discuss (1) NMFS efforts to-date to address bigeye, albacore, and yellowfin tunas data issues, (2) data inventories for bigeye, yellowfin, and albacore tunas on a state-by-state basis, (3) approaches to data monitoring and reporting for bigeye, albacore, and yellowfin tunas, (4) the process and timeline associated with the petition to list white marlin on the ESA, (5) white marlin stock assessment results, and (6) information relating to white marlin with respect to the ESA listing factors.

Special Accommodations

The meeting location is physically accessible to people with disabilities. Requests for sign language interpretation or other auxiliary aids should be directed to Erika Carlsen at (301) 713-2276 at least 5 days prior to the meeting date.

Dated: May 20, 2002.
Virginia M. Fay,
Acting Director, Office of Sustainable Fisheries, National Marine Fisheries Service.

[FR Doc. 02-13146 Filed 5-23-02; 8:45 am]

BILLING CODE 3510-22-S